DEPARTMENT OF COMMERCE

International Trade Administration

A-307-820

Silicomanganese from Venezuela: Notice of Rescission of Antidumping Administrative Review

AGENCY: Import Administration, International Trade Administration, Department of Commerce.

SUMMARY: In response to a request from Hornos Electricos de Venezuela (Hevensa), a Venezuelan producer and exporter of silicomanganese, the Department of Commerce (the Department) initiated an administrative review of the antidumping duty order on silicomanganese from Venezuela. See Notice of Initiation of Antidumping and Countervailing Duty Administrative Reviews, 70 FR 37749 (Initiation Notice). This administrative review covered the period of May 1, 2004, through April 30, 2005. We are now rescinding this review as a result of Hevensa's withdrawal of its request for an administrative review.

EFFECTIVE DATE: October 5, 2005.

FOR FURTHER INFORMATION CONTACT: Brian Sheba, Maryanne Burke or Robert James, AD/CVD Operations, Office 7, Import Administration, International Trade Administration, U.S. Department of Commerce, 14th Street and Constitution Avenue, NW, Room 7868, Washington, DC 20230; telephone (202) 482-0145, (202) 482-5604 or (202) 482-0649, respectively.

SUPPLEMENTARY INFORMATION:

Background

The Department published an antidumping duty order on silicomanganese from Venezuela on May 23, 2002. See Notice of Amended Final Determination of Sales at Less than Fair Value and Antidumping Duty Orders: Silicomanganese from India, Kazakhstan, and Venezuela, 67 FR 36149 (May 23, 2002). On May 2, 2005, the Department published a notice of “Opportunity to Request Administrative Review” of the antidumping duty order for the period of May 1, 2004, through April 30, 2005. See Notice of Opportunity to Request Administrative Review of Antidumping or Countervailing Duty Order, Finding or Suspended Investigation, 70 FR 22631 (May 2, 2005). Hevensa requested that the Department conduct an administrative review of the antidumping duty order on silicomanganese from Venezuela on May 31, 2005. In response to this request, the Department published the initiation of the antidumping duty administrative review on silicomanganese from Venezuela on June 30, 2005. See Initiation Notice. On September 12, 2005, Hevensa submitted a letter withdrawing its request for an administrative review. The request for review submitted by Hevensa was the only request for administrative review of this order for the period May 1, 2004, through April 30, 2005.

Rescission of the Administrative Review

Pursuant to 19 CFR 351.213(d)(1), the Secretary will rescind an administrative review under this section, in whole or in part, if a party that requested the review withdraws the request within 90 days of the date of publication of notice of initiation of the requested review. The notice was published on June 30, 2005. We received Hevensa's request on September 12, 2005, less than 90 days after publication of the notice. Since the sole party who requested this administrative review, Hevensa, has withdrawn its request in a timely manner, we are rescinding this review. The Department will issue appropriate assessment instructions to U.S. Customs and Border Protection within 15 days of publication of this notice.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with section 777(I) of the Tariff Act of 1930, as amended, and 19 CFR 351.213(d)(4).

Dated: September 29, 2005.
Barbara E. Tillman,
Acting Deputy Assistant Secretary for Import Administration.

[FR Doc. E5-5458 Filed 10-4-05; 8:45 am]

BILLING CODE 3510-DS-S